DEPARTMENT OF COMMERCE

International Trade Administration

[A-570-964]

Seamless Refined Copper Pipe and Tube From the People's Republic of China: Preliminary Results and Partial Rescission of Administrative Review; 2012-2013

AGENCY: Enforcement and Compliance, International Trade Administration, Department of Commerce.

SUMMARY: In response to requests from interested parties, the Department of Commerce (the “Department”) is conducting the third administrative review of the antidumping duty order on seamless refined copper pipe and tube from the People's Republic of China (“PRC”), covering the period November 1, 2012 through October 31, 2013. The Department preliminarily determines that, during the period of review, Golden Dragon Precise Copper Tube Group, Inc., Hong Kong GD Trading Co., Ltd., and Golden Dragon Holding (Hong Kong) International, Ltd. (collectively, “Golden Dragon”), the respondent in this proceeding, has made sales of subject merchandise at less than normal value (“NV”). Interested parties are invited to comment on these preliminary results.

DATES: Effective Date: December 1, 2014.

FOR FURTHER INFORMATION CONTACT: James Martinelli, AD/CVD Operations, Office IV, Enforcement and Compliance, International Trade Administration, U.S. Department of Commerce, 14th Street and Constitution Avenue NW., Washington, DC 20230; telephone: (202) 482-2923.

SUPPLEMENTARY INFORMATION:

Scope of Order

The merchandise subject to the order is seamless refined copper pipe and tube. The product is currently classified under Harmonized Tariff Schedule of the United States (“HTSUS”) item numbers 7411.10.1030 and 7411.10.1090. Products subject to this order may also enter under HTSUS item numbers 7407.10.1500, 7419.99.5050, 8415.90.8065, and 8415.90.8085. Although the HTSUS numbers are provided for convenience and customs purposes, the written description of the scope of this order remains dispositive.¹

¹ See Memorandum to Paul Piquado, Assistant Secretary for Enforcement and Compliance, from Christian Marsh, Deputy Assistant Secretary for Antidumping and Countervailing Duty Operations, regarding “Decision Memorandum for the Preliminary Results of the 2012-2013 Administrative Review of the Antidumping Duty Order on Seamless Refined Copper Pipe and Tube from the People's Republic of China” (November 21, 2014) for a complete description of the scope of the order (“Preliminary Decision Memorandum”).

Extension of Deadlines for Preliminary Results

On July 8, 2014 the Department extended the time period for issuing the preliminary results of this review by 120 days, until December 1, 2014.²

² See Memorandum to Christian Marsh, Deputy Assistant Secretary for Antidumping and Countervailing Duty Operations, through Abdelali Elouaradia, Office Director, Antidumping and Countervailing Duty Operations, Office 4, from Maisha Cryor, International Trade Compliance Analyst, Antidumping and Countervailing Duty Operations, Office 4, regarding “Seamless Refined Copper Pipe and Tube from the People's Republic of China: Extension of Deadline for Preliminary Results of Antidumping Duty Administrative Review” (July 8, 2014).

Rescission of Administrative Review, in Part

Pursuant to 19 CFR 351.213(d)(1), the Secretary will rescind an administrative review, in whole or in part, if a party who requested the review withdraws the request within 90 days of the date of publication of the notice of initiation of the requested review. The Department is rescinding this review with regard to Luvata Tube (Zhongshan) Ltd. & Luvata Alltop (Zhongshan) Ltd. (collectively, “Luvata”), Shanghai Hailiang Copper Co., Ltd., and Zhejiang Hailiang Co., Ltd. as parties have timely withdrawn all review requests with respect to these companies. At the time of Initiation, Luvata, Shanghai Hailiang Copper Co., Ltd., and Zhejiang Hailiang Co., Ltd. had a separate rate from a prior completed segment of this proceeding.³ Because we are now rescinding this review for these companies, we will instruct CBP to liquidate their entries at the rates of the cash deposits of estimated antidumping duties required at the time of entry, or withdrawal from warehouse, for consumption, in accordance with 19 CFR 351.212(c)(2).

³ See Seamless Refined Copper Pipe and Tube From Mexico and the People's Republic of China: Final Determination of Sales at Less Than Fair Value, 75 FR 60725, 60729 (October 1, 2010) (“LTFV Final Determination”).

Reviews were also requested for 11 additional companies listed in the Initiation Notice, and those requests were also timely withdrawn.⁴ However, we are not rescinding the reviews for these 11 companies at this time because they do not have a separate rate and, therefore, each currently remains part of the PRC-wide entity. The PRC-wide entity is currently subject to this administrative review.⁵

⁴ See Initiation of Antidumping and Countervailing Duty Administrative Reviews and Request for Revocation in Part, 78 FR 79392 (December 30, 2013) (“Initiation Notice”). The 11 companies include: China Hailiang Metal Trading, Foshan Hua Hong Copper Tube Co., Ltd., Guilin Lijia Metals Co., Ltd., Hong Kong Hailiang Metal, Ningbo Jintian Copper Tube Co., Ltd., Shanghai Hailiang Metal Trading Limited, Sinochem Ningbo Ltd. & Sinochem Ningbo Import & Export Co., Ltd., Taicang City Jinxin Copper Tube Co., Ltd., Zhejiang Jihe Pipes Inc., and Zhejiang Naile Copper Co., Ltd. These companies are not included in the collapsed entity of Hong Kong Hailiang Metal Trading Limited, Zhejiang Hailiang Co., Ltd., and Shanghai Hailiang Copper Co., Ltd.

⁵ See, e.g., Narrow Woven Ribbons With Woven Selvedge From the People's Republic of China: Preliminary Results and Partial Rescission of Antidumping Duty Administrative Review, 77 FR 47363, 47365 (August 8, 2012), unchanged in Narrow Woven Ribbons With Woven Selvedge From the People's Republic of China: Final Results of Antidumping Duty Administrative Review; 2010-2011, 78 FR 10130 (February 13, 2013). A change in practice with respect to the conditional review of the PRC-wide entity is not applicable to this administrative review. See Antidumping Proceedings: Announcement of Change in Department Practice for Respondent Selection in Antidumping Duty Proceedings and Conditional Review of the Nonmarket Economy Entity in NME Antidumping Duty Proceedings, 78 FR 65964, 65969-70 (November 4, 2013) (apply the change in practice to reviews for which the notice of opportunity to request an administrative review is published on or after December 4, 2013).

Methodology

The Department conducted this review in accordance with section 751(a)(1)(A) of the Tariff Act of 1930, as amended (the “Act”). Export prices and constructed export prices were calculated in accordance with section 772 of the Act. Because the PRC is a nonmarket economy (“NME”) country within the meaning of section 771(18) of the Act, NV has been calculated in accordance with section 773(c) of the Act.

For a full description of the methodology underlying our conclusions, see the Preliminary Decision Memorandum, which is hereby adopted by this notice. A list of topics discussed in the Preliminary Decision Memorandum is included as an Appendix to this notice. The Preliminary Decision Memorandum is a public document and is on file electronically via Enforcement and Compliance's Antidumping and Countervailing Duty Centralized Electronic Service System (“ACCESS”). ACCESS is available to registered users at http://access.trade.gov, and it is available to all parties in the Central Records Unit, room 7046 of the main Department of Commerce building. In addition, a complete version of the Preliminary Decision Memorandum can be accessed at http://enforcement.trade.gov/frn/index.html. The signed Preliminary Decision Memorandum and the electronic versions of the Preliminary Decision Memorandum are identical in content.

Preliminary Results of Review

The Department preliminarily determines that the following weighted-average dumping margins exist:

Exporter | Weighted-average dumping margin (percent)
Golden Dragon Precise Copper Tube Group, Inc., Hong Kong GD Trading Co., Ltd., and Golden Dragon Holding (Hong Kong) International, Ltd. | 7.17
PRC-wide entity | 60.85

Disclosure and Public Comment

The Department intends to disclose calculations performed for these preliminary results to the parties within five days of the date of publication of this notice in accordance with 19 CFR 351.224(b). Interested parties may submit written comments no later than 30 days after the date of publication of these preliminary results.⁶ Rebuttals to written comments may be filed no later than five days after the written comments are filed.⁷

⁶ See 19 CFR 351.309(c).

⁷ See 19 CFR 351.309(d).

Any interested party may request a hearing within 30 days of publication of this notice.⁸ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁹

⁸ See 19 CFR 351.310(c).

⁹ See 19 CFR 351.310(d).

All submissions by interested parties must be filed electronically via ACCESS. An electronically filed document must be received successfully in its entirety by the Department's electronic records system, ACCESS, by 5 p.m. Eastern Time in order for it to have been submitted timely on that day.

The Department intends to issue the final results of this administrative review, which will include the results of its analysis of issues raised in any written comments, within 120 days of publication of these preliminary results unless extended, pursuant to section 751(a)(3)(A) of the Act.

Assessment Rates

Upon issuing the final results of the review, the Department shall determine, and U.S. Customs and Border Protection (“CBP”) shall assess, antidumping duties on all appropriate entries. The Department intends to issue assessment instructions to CBP 15 days after the date of publication of the final results of review. For any individually examined respondents whose weighted-average dumping margin is not zero or de minimis (i.e., less than 0.5 percent), the Department will calculate importer-specific ad valorem duty assessment rates based on the ratio of the total amount of dumping calculated for the importer's examined sales to the total entered value of those same sales in accordance with 19 CFR 351.212(b)(1).¹⁰ For respondents not individually examined for this review, their ad valorem assessment rate will be equal to their weighted-average dumping margin established in the final results of review.

¹⁰ In these preliminary results, the Department applied the assessment rate calculation method adopted in Antidumping Proceedings: Calculation of the Weighted-Average Dumping Margin and Assessment Rate in Certain Antidumping Proceedings: Final Modification, 77 FR 8101 (February 14, 2012).

The Department will instruct CBP to assess antidumping duties on all appropriate entries covered by this review when the importer-specific assessment rate calculated in the final results of this review is not zero or de minimis. Where either the respondent's weighted-average dumping margin is zero or de minimis, or an importer-specific assessment rate is zero or de minimis, the Department will instruct CBP to liquidate the appropriate entries without regard to antidumping duties.

The Department announced a refinement to its assessment practice in NME cases. Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.¹¹

¹¹ For a full discussion of this practice, see Non-Market Economy Antidumping Proceedings: Assessment of Antidumping Duties, 76 FR 65694 (October 24, 2011).

The final results of this review shall be the basis for the assessment of antidumping duties on entries of merchandise covered by the final results of this review and for future deposits of estimated antidumping duties.

Cash Deposit Requirements

The following cash deposit requirements will be effective upon publication of the final results of this administrative review for shipments of the subject merchandise from the PRC entered, or withdrawn from warehouse, for consumption on or after the publication date, as provided by section 751(a)(2)(C) of the Act: (1) For the exporters listed above, the cash deposit rate will be equal to the weighted-average dumping margin established in the final results of this review (except, if the rate is de minimis, then the cash deposit rate will be zero for that exporter); (2) for previously investigated or reviewed PRC and non-PRC exporters not listed above that have separate rates, the cash deposit rate will continue to be the exporter-specific rate published for the most recently completed segment of this proceeding; (3) for all PRC exporters of subject merchandise that have not been found to be entitled to a separate rate, the cash deposit rate will be 60.85 percent, which is the rate for the PRC-wide entity; ¹² and (4) for all non-PRC exporters of subject merchandise which have not received their own rate, the cash deposit rate will be the rate applicable to the PRC exporter that supplied that non-PRC exporter. These deposit requirements, when imposed, shall remain in effect until further notice.

¹² See LTFV Final Determination, 75 FR at 60729.

Notification to Importers

This notice serves as a preliminary reminder to importers of their responsibility under 19 CFR 351.402(f)(2) to file a certificate regarding the reimbursement of antidumping duties prior to liquidation of the relevant entries during this review period. Failure to comply with this requirement could result in the CBP assessing double antidumping duties based on the Department's presumption that antidumping duties were reimbursed.

Notification to Interested Parties

This administrative review and notice are in accordance with sections 751(a)(1) and 777(i) of the Act and 19 CFR 351.213.

Dated: November 21, 2014.
Paul Piquado,
Assistant Secretary for Enforcement and Compliance.

Appendix

List of Topics Discussed in the Preliminary Decision Memorandum

1. Summary

2. Background

3. Scope of the Order

4. Discussion of the Methodology

5. Partial Rescission of Administrative Review

6. Non-Market Economy Country Status

7. Separate Rates

8. PRC-Wide Entity

9. Surrogate Country

10. Date of Sale

11. Fair Value Comparisons

12. Determination of Comparison Method

13. Export Price

14. Constructed Export Price

15. Value Added Tax

16. Normal Value

17. Factor Valuations

18. Currency Conversion

19. Recommendation

[FR Doc. 2014-28255 Filed 11-28-14; 8:45 am]

BILLING CODE 3510-DS-P